DEPARTMENT OF COMMERCE

Foreign-Trade Zones Board

[B-67-2012]

Foreign-Trade Zone 242—Boundary County, ID, Notification of Proposed Production Activity, AREVA Enrichment Services, LLC, (Gas Centrifuge Production Equipment), Bonneville County, ID

Boundary County, grantee of FTZ 242, submitted a notification of proposed production activity on behalf of AREVA Enrichment Services, LLC (AES), located in Bonneville County, Idaho. The notification conforming to the requirements of the regulations of the Board (15 CFR 400.22) was received on August 21, 2012.

A separate application for subzone status at the AES facility was submitted and will be processed under Section 400.31 of the Board's regulations. FTZ authority is being requested for the storage, manipulation, assembly and installation of gas centrifuge production equipment. Production under FTZ procedures could allow AES to choose the duty rates during customs entry procedures that apply to the finished cascades (duty rate 2.6%) for the foreign status inputs noted below.

Components and materials sourced from abroad include: plastic tubing, plastic pipework, centrifuge floor-mounting elements, UF6 pipework/fittings, parts of cascades, vacuum pumps, UF6 pumps, heat exchange units, autoclaves, stations, parts of stations, machinery parts, UF6 valves and centrifuge drive systems (duty rate ranges from duty-free to 5.7%).

Public comment is invited from interested parties. Submissions shall be addressed to the Board's Executive Secretary at the address below. The closing period for their receipt is October 9, 2012.

A copy of the notification will be available for public inspection at the Office of the Executive Secretary, Foreign-Trade Zones Board, Room 21013, U.S. Department of Commerce, 1401 Constitution Avenue NW., Washington, DC 20230-0002, and in the “Reading Room” section of the Board's Web site, which is accessible via www.trade.gov/ftz.

For further information, contact Elizabeth Whiteman at Elizabeth.Whiteman@trade.gov or (202) 482-0473.

Dated: August 22, 2012.
Andrew McGilvray,
Executive Secretary.

[FR Doc. 2012-21454 Filed 8-29-12; 8:45 am]

BILLING CODE P